Title 3—

The President

Notice of February 20, 2004

Notice of Intention to Enter Into a Free Trade Agreement with Costa Rica, El Salvador, Honduras, Guatemala, and Nicaragua (the “CAFTA Countries”)

Consistent with section 2105(a)(1)(A) of the Trade Act of 2002, I have notified the Congress of my intention to enter into a Free Trade Agreement with the Governments of the CAFTA countries.

Consistent with section 2105(a)(1)(A) of that Act, this notice shall be published in the Federal Register.

B

THE WHITE HOUSE,

Washington, February 20, 2004.

[FR Doc. 04-4229

Filed 2-23-04; 8:49 am]

Billing code 3190-01-M